DEPARTMENT OF ENERGY

Federal Energy Regulatory Commission

[Project No. 12783-003]

Inglis Hydropower, LLC; Notice of Application Accepted for Filing and Soliciting Motions To Intervene and Protests

February 26, 2010.

Take notice that the following hydroelectric application has been filed with the Commission and is available for public inspection.

a. Type of Application: Original Major License.

b. Project No.: P-12783-003.

c. Date filed: July 22, 2009.

d. Applicant: Inglis Hydropower, LLC.

e. Name of Project: Inglis Hydropower Project.

f. Location: The proposed project would be located at the existing Inglis Bypass Channel and Spillway on the Withlacoochee River, west of Lake Rousseau and Inglis dam, within the town of Inglis, in Levy, Citrus, and Marion counties, Florida. No federal lands would be occupied by the proposed project.

g. Filed Pursuant to: Federal Power Act 16 U.S.C. 791 (a)-825(r).

h. Applicant Contacts: Mr. Dean Edwards, P.O. Box 1565, Dover, FL 33527; Mr. Kevin Edwards, P.O. Box 143, Mayodan, NC 27027.

i. FERC Contact: Jennifer Adams at (202) 502-8087, or jennifer.adams@ferc.gov.

j. Deadline for filing motions to intervene and protests: 60 days from the issuance date of this notice, or April 27, 2010.

All documents may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. This application has been accepted for filing, but is not ready for environmental analysis at this time.

l. The proposed 2.0-megawatt Inglis Hydropower Project would operate in a run-of-river mode by using flows released to maintain the surface elevation of Lake Rousseau at 27.5 feet mean sea level. Flow releases would be determined by the Southwest Florida Water Management District. The proposed powerhouse would be 60 feet long by 80 feet wide by 30 feet high, and contain three vertical shaft turbines. The penstock would be 130 feet in length. The project would generate about 12,300,000 kilowatt hours annually, which would be fed into the interconnected transmission system via an existing 3.4-mile-long, 12,470-kilovolt transmission line.

m. A copy of the application is available for review at the Commission in the Public Reference Room, or may be viewed on the Commission's Web site at http://www.ferc.gov, using the “eLibrary” link. Enter the docket number, excluding the last three digits in the docket number field, to access the document. For assistance, contact FERC Online Support. A copy is also available for inspection and reproduction at the address in item h above.

You may also register online at http://www.ferc.gov/docs-filing/esubscription.asp to be notified via e-mail of new filings and issuances related to this or other pending projects. For assistance, contact FERC Online Support.

n. Any qualified applicant desiring to file a competing application must submit to the Commission, on or before the specified intervention deadline date, a competing development application no later than 120 days after the specified intervention deadline date. Applications for preliminary permits will not be accepted in response to this notice.

A notice of intent must specify the exact name, business address, and telephone number of the prospective applicant, and must include an unequivocal statement of intent to submit a development application. A notice of intent must be served on the applicant(s) names in this public notice.

Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on, or before, the specified deadline date for the particular application.

When the application is ready for environmental analysis, the Commission will issue a public notice requesting comments, recommendations, terms and conditions, or prescriptions.

All filings must: (1) Bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

Kimberly D. Bose,
Secretary.

[FR Doc. 2010-4621 Filed 3-4-10; 8:45 am]

BILLING CODE 6717-01-P